DEPARTMENT OF THE INTERIOR

Bureau of Land Management

[UT-100-1430-ES; U-82096]

Notice of Realty Action; Recreation and Public Purposes Act Classification; Utah

AGENCY: Bureau of Land Management, Interior.

ACTION: Notice of Realty Action.

SUMMARY: The Bureau of Land Management (BLM) has examined and found suitable for classification for lease or conveyance to the City of Washington under the provisions of the Recreation and Public Purposes Act (R&PP), as amended, 15 acres of public land located in Washington County, Utah. The City of Washington proposes to the use the land for a wareyard to accomodate office and storage space for City departments.

ADDRESSES: Bureau of Land Management, St. George Field Office, 345 E. Riverside Drive, St. George, Utah 84790.

DATES: Interested persons may submit written comments to the BLM at the address stated below. Comments must be received by not later than January 4, 2007.

FOR FUTHER INFORMATION CONTACT: Kathy Abbott, BLM Realty Specialist, at the address above or at (435) 688-3234.

SUPPLEMENTARY INFORMATION: The following described public land in Washington County, Utah has been examined and found suitable for classification for lease or conveyance for a municipal wareyard under provisions of the Recreation and Public Purposes (R&PP) Act, as amended (43 U.S.C. 869 et seq.), and is hereby classified accordingly:

Salt Lake Meridian

T. 42 S., R. 15 W.,

sec. 24, portions of S½NW¼SE¼SW¼, S½SE¼SW¼.

The area described contains 15 acres in Washington County.

The City of Washington has filed with BLM an application pursuant to the R&PP Act, as amended. The City of Washington proposes to the use the land for a wareyard to accommodate office and storage space for City departments based on a plan submitted with the application. The public land is not required for any Federal purpose.

Lease/conveyance is consistent with current BLM planning for this area and would be in the public interest. The lease/conveyance, when issued, would be subject to the following terms, conditions, and reservations:

1. Provisions of the R&PP Act and all applicable regulations of the Secretary of the Interior.

2. A right-of-way for ditches and canals constructed by the authority of the United States, Act of August 30, 1890 (43 U.S.C. 945).

3. All minerals are reserved to the United States, together with the right to prospect for, mine, and remove the minerals, under applicable laws and regulations established by the Secretary of the Interior.

4. All valid existing rights.

5. Any other reservations that the authorized officer determines appropriate to ensure public access and proper management of Federal lands and interests therein. Detailed information concerning the proposed lease or conveyance, including environmental records, is available at the BLM St. George Field Office at the address above.

On November 20, 2006, the above described land will be segregated from all other forms of appropriation under the public land laws, including the general mining laws, except for lease or conveyance under the R&PP Act and leasing under the mineral leasing laws.

Interested persons may submit comments regarding the proposed classification or lease/conveyance of the land to the Field Office Manager, BLM St. George Field Office at the address above. Comments must be received by not later than January 4, 2007.

Classification Comments

Interested parties may submit comments involving the suitability of the lands for a City wareyard. Comments on the classification are restricted to whether the land is physically suited for the proposal, whether the use will maximize the future use or uses of the land, whether the use is consistent with local planning and zoning, or if the use is consistent with State and Federal programs.

Application Comments

Interested parties may submit comments regarding the specific use proposed in the City of Washington's application, whether the BLM followed proper administrative procedures in processing the application and in reaching the proposed decision, or any other factor not directly related to the suitability of the land for City wareyard purposes.

All submissions from organizations or businesses will be made available for public inspection in their entirety. Individuals may request confidentiality with respect to their name, address, and phone number. If you wish to have your name or street address withheld from public review, or from disclosure under the Freedom of Information Act, the first line of the comment should start with the words “CONFIDENTIALITY REQUEST” in uppercase letters in order for BLM to comply with your request. Such requests will be honored to the extent allowed by law. Comment contents will not be kept confidential.

Any adverse comments will be reviewed by the State Director. In the absence of any adverse comments, the decision to lease or convey will become the final decision of the Department of the Interior. In the absence of any adverse comments, the classification will become effective on January 19, 2007. The land will not be offered for lease/conveyance until after the classification becomes effective.

(Authority: 43 CFR 2741.5)

Dated: July 18, 2006.
Kim Leany,
Acting Field Office Manager.

Editorial Note: This document was received at the Office of the Federal Register on November 14, 2006.

[FR Doc. E6-19507 Filed 11-17-06; 8:45 am]

BILLING CODE 4310-DQ-P